DEPARTMENT OF THE DEFENSE

Department of the Army, Corps of Engineers

Notice of Intent To Prepare a Supplemental Environmental Impact Statement for the Mid-Chesapeake Bay Islands Ecosystem Restoration Project at James Island

AGENCY: U.S. Army Corps of Engineers, DoD.

ACTION: Notice of intent.

SUMMARY: Pursuant to the requirements of the National Environmental Policy Act (NEPA) of 1969, as amended, the Baltimore District of the U.S. Army Corps of Engineers (USACE), in partnership with the Maryland Department of Transportation's Maryland Port Administration, the non-federal sponsor, plans to prepare a supplemental Environmental Impact Statement (sEIS) for the Mid-Chesapeake Bay Island Ecosystem Restoration Project at James Island (Mid-Bay Island Project). The Mid-Chesapeake Islands Restoration Project recommends remote island restoration at James Island and Barren Island, both on the Eastern Shore of Maryland and in Dorchester County, MD, through the beneficial use of dredged material. The project addresses two needs: (1) the restoration of remote island habitat to benefit wildlife including a diverse assemblage of birds, fish, herpetofauna, and invertebrates; and (2) the beneficial use of dredged material from the maintenance of the approach channels to Baltimore Harbor. Remote islands, a critical ecosystem component in the Chesapeake Bay, are offshore landforms that provide isolation, lack of human disturbance, and few predators. These conditions uniquely support isolated nesting and foraging habitat for a diverse assemblage of wildlife. Extensive island habitat loss has occurred within the Mid-Chesapeake Bay, and James Island has nearly vanished. Sea level rise and related erosion, as well as land subsidence and wave action are the primary drivers of island loss. The project provides an opportunity to utilize 30 to 70 million cubic yards of clean dredged material over a 20-year period to restore 2,072 acres of remote island habitat at James Island including uplands and wetlands. The project would convert over 2,000 acres of shallow water habitat in the waters surrounding James Island to external dikes and island habitat. There are expected to be long-term changes to the aesthetics of the project area as an effect of the restoration of James Island in the landscape. The sEIS will update documentation for NEPA focused on the James Island component of the project. USACE is requesting to be provided any supporting information, analyses, and alternative identification relevant to the action being evaluated by this sEIS.

DATES: Comments and suggestions must be submitted by December 7, 2022.

ADDRESSES: Send written comments and suggestions concerning the scope of issues to be evaluated within the sEIS to Angie Sowers, Integrated Water Resources Management Specialist, U.S. Army Corps of Engineers, Baltimore District, Planning Division—Civil Project Development Branch, (CENAP-PLP), 2 Hopkins Plaza, Baltimore, MD 21201, or via email to angela.sowers@usace.army.mil.

FOR FURTHER INFORMATION CONTACT: Questions about the overall Mid-Bay Island Project should be directed to Trevor Cyran, Project Manager at trevor.p.cyran@usace.army.mil or at (410) 962-4999. Additional information is available on the project's web page: https://www.nab.usace.army.mil/Mid-Bay.

SUPPLEMENTARY INFORMATION:

1. Background

USACE-Baltimore received the authority to conduct the Mid-Chesapeake Bay Island Ecosystem Restoration Feasibility Study under the resolution of the Senate Committee on Environment and Public Works on 5 June 1997. The feasibility study recommended remote island restoration at James Island and Barren Island, both on the Eastern Shore of Maryland and in Dorchester County, through the beneficial use of dredged material. The study built upon the Federal and State's Dredged Material Management Plan (DMMP) planning efforts to identify beneficial use sites to meet dredged material capacity needs and habitat restoration goals. The feasibility study determined the technical, economic, and environmental feasibility of protecting, restoring, and creating aquatic, intertidal wetland, and upland habitat for fish and wildlife within the Mid-Bay Island Project study area using clean dredged material from the Upper Chesapeake Bay Approach Channels.

Section 7002 of the Water Resources Reform and Development Act (WRDA) of 2014 authorized the Mid-Bay Island Project, as described in the Chief's Report, (https://planning.erdc.dren.mil/toolbox/library/ChiefReports/mid_chesapeake.pdf), dated August 2009, and the Mid-Chesapeake Bay Island Ecosystem Restoration Integrated Feasibility Report and Environmental Impact Statement (IFR/EIS), dated June 2009. The Federal Register notice (73 FR 56565, September 29, 2008) for the EIS being supplemented is available at https://www.govinfo.gov/content/pkg/FR-2008-09-29/pdf/E8-22764.pdf. The record of decision (ROD) was signed in July 2019 initiating the next phase of the study, Preconstruction Engineering and Design (PED). In March 2022, USACE published a supplemental Environmental Assessment (EA) with a signed finding of no significant impact (FONSI) to update NEPA compliance for the Barren Island component of the Mid-Bay Island Project. Acknowledging the scale of the James Island component of the project and the large-scale marine construction required to implement the project, a sEIS will be prepared.

The Mid-Bay Island Project recommended plan consists of restoring 2,072 acres of remote island habitat at James Island with a habitat proportion of 45% upland to 55% wetland, and an upland dike height of 20 ft MLLW.

The Mid-Bay Island Project provides for the restoration of remote island habitat to benefit wildlife including a diverse assemblage of birds, fish, herpetofauna, and invertebrates; and the beneficial use of dredged material. Remote islands, a critical ecosystem component in the Chesapeake Bay, are offshore landforms that provide isolation, lack of human disturbance, and few predators. These conditions uniquely support isolated nesting and foraging habitat for a diverse assemblage of wildlife. Extensive island habitat loss has occurred within the Mid-Chesapeake Bay. James Island, historically at least 1300 acres, has dwindled in the past 20 years from three remnants totaling less than 100 acres to multiple remnants summing to approximately 3 acres. Sea level rise and related erosion, as well as land subsidence and wave action are the primary drivers of island loss. Simultaneously, the project provides an opportunity for the beneficial use of dredged material. More than 130 miles of dredged shipping channels serve the Port of Baltimore, and channel maintenance and improvement projects require that approximately 4 to 5 million cubic yards of sediment be dredged from the Federal and State channels each year, 3.2 mcy of which comes from the upper Chesapeake Bay approach channels and the southern approach channels to the C&D Canal. The project will provide approximately 90 to 95 mcy, or approximately 28 to 30 years of dredged material placement capacity to meet the annual need for maintenance dredging activity.

The purpose of the current effort is to update NEPA documentation for the James Island component of the Mid-Bay Island Project during the project's design phase. The NEPA coordination/review schedule for the project will be coordinated with the appropriate Federal and state resource agencies

2. Study Area

The project is located in estuarine waters adjacent to James Island in Dorchester County, MD. James Island is situated along the eastern shore of the Chesapeake Bay, outside the mouth of the Little Choptank River, and slightly northeast of Taylors Island.

3. USACE Decision Making

As required by the Council on Environmental Quality's Principles, Requirements and Guidelines for Water and Land Related Resources Implementation Studies (2013), alternatives to the proposed Federal action that meet the purpose and need will be considered in the sEIS. These alternatives will include no action, the recommended plan as authorized by Section 7002 of WRDA 2014, and minor adjustments to account for changing conditions since the feasibility report was completed in 2009. The measures to be evaluated will consider applicable public stakeholder and agency input received since the beginning of PED and through future outreach efforts.

4. Scoping/Public Participation

Prior scoping meetings were held as part of the feasibility study. Public outreach events were held in May and June 2021. An additional community outreach session is planned for Saturday, November 19, 2022 from 10 a.m. to 12 p.m. at the Hoopers Island Fire Department [2756 Hoopers Island Road, Fishing Creek, MD 21634]. Any additional scoping input can be provided at that meeting or provided to the contacts identified here within, for 30 days following the meeting until December 19, 2022. Public meetings will be conducted during the public review period of the draft sEIS.

5. Lead and Cooperating Agencies

USACE is the lead federal agency and the Maryland Department of Transportation's Maryland Port Administration is the nonfederal sponsor for the project. The preparation of the sEIS meets the requirements of the NEPA and its Implementing Regulations of the President's Council on Environmental Quality (40 CFR 1500-1508). The U.S. Fish and Wildlife Service (FWS), the National Oceanic and Atmospheric Administration (NOAA), the U.S. Environmental Protection Agency (EPA), and the Maryland Department of Natural Resources (MDNR) have been invited to serve as cooperating agencies.

6. Alternatives To Be Considered

This sEIS evaluation will consider two alternatives: (1) No action, and (2) implementation of the feasibility study's recommended plan.

7. Study Schedule

The Draft sEIS is currently scheduled for distribution to the public in summer 2023, with a 45 day public review and comment period following release of the draft document.

8. Anticipated Impacts, Permits, and Authorization

The sEIS will analyze the full range of impacts, both beneficial and negative, of the alternatives. Potentially significant issues to be analyzed include impacts to waters of the United States, aquatic resources (including submerged aquatic vegetation), and endangered and threatened species and their habitats. Other impacts that will be analyzed include hydrology and water quality, air quality, navigation, cultural resources, aesthetics, environmental justice, and recreation. Anticipated permits and authorizations include water quality certification, Coastal Zone Consistency Determination, and a tidal wetlands license. In addition, many other federal, state, and local authorizations will be required for the Project. Applicable federal laws include the Endangered Species Act, Magnuson-Stevens Fishery Conservation and Management Act, Marine Mammals Protection Act, Rivers and Harbors Act, National Historic Preservation Act, Clean Water Act, and the Coastal Zone Management Act. USACE is also conducting government-to-government Tribal consultations.

Reinhard W. Koenig,
Programs Director, North Atlantic Division.

[FR Doc. 2022-24164 Filed 11-4-22; 8:45 am]

BILLING CODE 3720-58-P